DEPARTMENT OF HOMELAND SECURITY

Coast Guard

33 CFR Part 117

[Docket No. USCG-2014-1007]

Drawbridge Operation Regulation; Arkansas River, Pine Bluff, AR

AGENCY: Coast Guard, DHS.

ACTION: Notice of deviation from drawbridge regulation.

SUMMARY: The Coast Guard has issued a temporary deviation from the operating schedule that governs the Rob Roy Railroad Drawbridge across the Arkansas River, mile 64.7, at Pine Bluff, Arkansas. The deviation is necessary to allow the bridge owner to install a new generator and motor that are essential to the continued safe operation of the drawbridge. This deviation allows the bridge to remain in the closed-to-navigation position and not open to vessel traffic.

DATES: This deviation is effective without actual notice from December 11, 2014 through January 21, 2015. For the purposes of enforcement, actual notice will be used from November 24, 2014, until December 11, 2014.

ADDRESSES: The docket for this deviation, [USCG-2014-1007] is available at http://www.regulations.gov. Type the docket number in the “SEARCH” box and click “SEARCH.” Click on Open Docket Folder on the line associated with this deviation. You may also visit the Docket Management Facility in Room W12-140 on the ground floor of the Department of Transportation, West Building, 1200 New Jersey Avenue SE., Washington, DC 20590, between 9 a.m. and 5 p.m., Monday through Friday, except Federal holidays.

FOR FURTHER INFORMATION CONTACT: If you have questions on this temporary deviation, call or email Eric A. Washburn, Bridge Administrator, Western Rivers, Coast Guard; telephone 314-269-2378, email Eric.Washburn@uscg.mil. If you have questions on viewing the docket, call Cheryl F. Collins, Program Manager, Docket Operations, telephone 202-366-9826.

SUPPLEMENTARY INFORMATION: The Canadian Pacific Railroad requested a temporary deviation for the Rob Roy Railroad Drawbridge, across the Arkansas River, mile 64.7, at Pine Bluff, Arkansas to remain in the closed-to-navigation position during specific dates and times occurring between November 24, 2014 and January 21, 2015. The scheduled closures during this temporary deviation are as follows:

November 24th, 2014 from 8 a.m. to 4 p.m., one 8-hour closure;

December 15-23, 2014, 2 two-hour closures each day;

December 30, 2014 to January 5, 2015, 2 two-hour closures each day;

From 7 a.m., January 6 to 7 a.m., January 8, 2015; one 48-hour closure;

January 8-12, 2015, 2 two-hour daily closures each day; and

January 13-21, 2015, 2 two-hour closures each day.

These closures are necessary to install a new generator and motor. The Coast Guard will also inform the users of the waterways through our Local and Broadcast Notices to Mariners of the change in operating schedule for the bridge so that vessels can arrange their transits to minimize any impact caused by the temporary deviation.

The Rob Roy Railroad Drawbridge currently operates in accordance with 33 CFR 117.5, which states the general requirement that drawbridge shall open promptly and fully for the passage of vessels when a request to open is given in accordance with the subpart.

There are no alternate routes for vessels transiting this section of the Arkansas River.

The Rob Roy Railroad Drawbridge, in the closed-to-navigation position, provides a vertical clearance of 17.6 feet above normal pool. Navigation on the waterway consists primarily of commercial tows and recreational watercraft and will not be significantly impacted. This temporary deviation has been coordinated with waterway users. No objections were received.

In accordance with 33 CFR 117.35(e), the drawbridge must return to its regular operating schedule immediately at the end of the effective period of this temporary deviation. This deviation from the operating regulations is authorized under 33 CFR 117.35.

Dated: November 20, 2014.
Eric A. Washburn,
Bridge Administrator, Western Rivers.

[FR Doc. 2014-29116 Filed 12-10-14; 8:45 am]

BILLING CODE 9110-04-P